DEPARTMENT OF ENERGY

Federal Energy Regulatory Commission

Notice of Intent To File an Application for a New License

June 12, 2000.

a. Type of Filing: Notice of Intent to File an Application for a New License.

b. Project No.: 2183.

c. Date Filed: May 31, 2000.

d. Submitted By: Grand River Dam Authority—current license.

e. Name of Project: Markham Ferry Hydroelectric Project.

f. Location: On the Grand River near the City of Pryor, in Mayes County, Oklahoma.

g. Filed Pursuant to: Section 15 of the Federal Power Act.

h. Licensee Contract: Robert W. Sullivan, Jr., Grand River Dam Authority, P.O. Box 409, Vinita, OK 74301 (918) 256-5545.

i. FERC Contact: Tom Dean, thomas.dean@ferc.fed.us, (202) 219-2778.

j. Effective date of current license: June 1, 1955.

k. Expiration date of current license: May 31, 2005.

l. Description of the Project: The project consists of the following existing facilities: (1) The 90-foot-high, 3,744-foot-long Robert S. Kerr Dam comprised of an earthen embankment section, a concrete non-overflow section and gated spillway; (2) the 45-foot-high, 6,200-foot-long Salina dike; (3) a reservoir at a normal power pool elevation of 619 feet msl; (4) a powerhouse integral with the dam containing four generating units with a total installed capacity of 100 MW, and (5) other appurtenances.

m. Each application for a new license and any competing license applications must be filed with the Commission at least 24 months prior to the expiration of the existing license. All applications for license for this project must be filed by May 31, 2003.

David P. Boergers,
Secretary.

[FR Doc. 00-15275 Filed 6-15-00; 8:45 am]

BILLING CODE 6717-01-M